DEPARTMENT OF HEALTH AND HUMAN SERVICES

Meeting of the Chronic Fatigue Syndrome Advisory Committee

AGENCY: Department of Health and Human Services, Office of the Secretary, Office of Public Health and Science.

ACTION: Notice.

SUMMARY: As stipulated by the Federal Advisory Committee Act, the U.S. Department of Health and Human Services is hereby giving notice that the Chronic Fatigue Syndrome Advisory Committee (CFSAC) will hold a meeting. The meeting will be open to the public.

DATES: The meeting will be held on Tuesday, October 28, 2008, and Wednesday, October 29, 2008. The meeting will be held from 9 a.m. to approximately 5 p.m. on both days.

ADDRESSES: Department of Health and Human Services; Room 800 Hubert H. Humphrey Building; 200 Independence Avenue, SW.; Washington, DC 20201

FOR FURTHER INFORMATION CONTACT: Dr. Anand K. Parekh, Executive Secretary, Chronic Fatigue Syndrome Advisory Committee; Department of Health and Human Services; 200 Independence Avenue, SW., Room 727H; Washington, DC 20201; (202) 401-7605 or Olga Nelson, Committee Management Officer, Office of Public Health and Science; U.S. Department of Health and Human Services; 200 Independence Avenue, SW., Room 714B; Washington, DC 20201; (202) 690-5205.

SUPPLEMENTARY INFORMATION: CFSAC was established on September 5, 2002. The Committee was established to advise, consult with, and make recommendations to the Secretary, through the Assistant Secretary for Health, on a broad range of topics including (1) the current state of knowledge and research about the epidemiology and risk factors relating to chronic fatigue syndrome, and identifying potential opportunities in these areas; (2) current and proposed diagnosis and treatment methods for chronic fatigue syndrome; and (3) development and implementation of programs to inform the public, health care professionals, and the biomedical, academic, and research communities about chronic fatigue syndrome advances.

The agenda for this meeting is being developed. The agenda will be posted on the CFSAC Web site, http://www.hhs.gov/advcomcfs, when it is finalized.

Public attendance at the meeting is strongly encouraged. Individuals must provide a photo ID for entry into the building where the meeting is scheduled to be held. Individuals who plan to attend and need special assistance, such as sign language interpretation or other reasonable accommodations, should notify the designated contact person. Members of the public will have the opportunity to provide comments at the meeting. The committee is very interested to hear about experiences that individuals with chronic fatigue syndrome have had interfacing with the medical community. In addition, the committee welcomes specific comments on issues surrounding chronic fatigue syndrome research, provider education, and quality of life. Individuals who wish to address the Committee during the public comment session must pre-register by October 23, 2008. Any individual who wishes to participate in the public comment session should call the telephone number listed in the contact information to register. Public comment will be limited to five minutes per speaker. Members of the public who wish to have printed material distributed to CFSAC members for discuss should submit, at a minimum, one copy of the material to the OPHS Committee Management Officer prior to close of business on October 23, 2008. Contact information for the OPHS Committee Management Officer is listed above.

Dated: September 19, 2008.
Anand K. Parekh,
Executive Secretary, Chronic Fatigue Syndrome Advisory Committee.

[FR Doc. E8-22577 Filed 9-24-08; 8:45 am]

BILLING CODE 4150-42-P